DEPARTMENT OF DEFENSE

Office of the Secretary

[Transmittal No. 25-19]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-19, Policy Justification, and Sensitive of Technology.

Dated: January 12, 2026.
Stephanie J. Bost,
Alternate OSD Federal Register Liaison Officer, Department of Defense.

BILLING CODE 6001-FR-P

BILLING CODE 6001-FR-C

Transmittal No. 25-19

Notice of Proposed Issuance of Letter of Offer Pursuant to Section 36(b)(1) of the Arms Export Control Act, as amended

(i) Prospective Purchaser: Government of Romania

(ii) Total Estimated Value:

Major Defense Equipment * | $180 million
Other | $100 million
TOTAL | $280 million

Funding Source: National Funds and Foreign Military Financing

(iii) Description and Quantity or Quantities of Articles and/or Services under Consideration for Purchase:

Major Defense Equipment:

One (1) AN/MPQ-65 Configuration 3+ Increment 3 radar set

One (1) AN/MSQ-132 Engagement Control Station

Two (2) M903 launching stations

One (1) Electrical Power Plant (EPP) III

Non-Major Defense Equipment:

The following non-MDE items will also be included: launching station modification kits; PATRIOT Advanced Capability-3 (PAC-3) Missile Segment Enhancement launcher conversion kit; generators; generator spare parts; prime movers; spare parts for prime movers; KG-250X encryptor; AN/TPX-57v1 identification friend or foe (IFF); KIV-77 encryptor; personnel communication equipment training; Defense Advanced Global Positioning Systems Receivers (DAGRs); United States (U.S.) Government and contractor representative technical assistance; engineering and logistics support services; publications and technical documentation; classified software; classified books and publications; and other related elements of logistics and program support.

(iv) Military Department: Army (RO-B-UHD)

(v) Prior Related Cases, if any: RO-B-UEM

(vi) Sales Commission, Fee, etc., Paid, Offered, or Agreed to be Paid: None known at this time

(vii) Sensitivity of Technology Contained in the Defense Article or Defense Services Proposed to be Sold: See Attached Annex

(viii) Date Report Delivered to Congress: April 28, 2025

* as defined in Section 47(6) of the Arms Export Control Act.

POLICY JUSTIFICATION

Romania—PATRIOT Air Defense System

The Government of Romania has requested to buy one (1) AN/MPQ-65 Configuration 3+ Increment 3 radar set; one (1) AN/MSQ-132 Engagement Control Station; two (2) M903 launching stations; and one (1) Electrical Power Plant (EPP) III. The following non-MDE items will also be included: launching station modification kits; PATRIOT Advanced Capability-3 (PAC-3) Missile Segment Enhancement launcher conversion kit; generators; generator spare parts; prime movers; spare parts for prime movers; KG-250X encryptor; AN/TPX-57v1 identification friend or foe (IFF); KIV-77 encryptor; personnel communication equipment training; Defense Advanced Global Positioning Systems Receivers (DAGRs); U.S. Government and contractor representative technical assistance; engineering and logistics support services; publications and technical documentation; classified software; classified books and publications; and other related elements of logistics and program support. The estimated total cost is $280 million.

This proposed sale will support the foreign policy goals and national security objectives of the U.S. by improving the security of a NATO Ally that is an important force for political and economic stability in Europe.

The proposed sale will improve Romania's capability to meet current and future threats by enabling it to field a credible force to deter adversaries and support its participation in NATO operations. Romania will have no difficulty absorbing this equipment into its armed forces.

The proposed sale of this equipment and support will not alter the basic military balance in the region.

The principal contractors will be RTX Corporation, located in Andover, MA, and Lockheed Martin, located in Bethesda, MD. At this time, the U.S. Government is not aware of any offset agreement proposed in connection with this potential sale. Any offset agreement will be defined in negotiations between the purchaser and the contractor.

Implementation of this proposed sale will require approximately five U.S. Government and five U.S. contractor representatives to travel to Romania for a duration of up to three years to support equipment fielding and training.

There will be no adverse impact on U.S. defense readiness as a result of this proposed sale.

Transmittal No. 25-19

Notice of Proposed Issuance of Letter of Offer Pursuant to Section 36(b)(1) of the Arms Export Control Act

Annex

Item No. vii

(vii) Sensitivity of Technology:

1. The AN/MPQ-65 Configuration 3+ Increment 3 PATRIOT radar set (RS) consists of a multifunction phased-array radar mounted on a semitrailer. The RS is powered by the Electric Power Plant (EPP) and monitored and controlled by the Engagement Control Station (ECS). The AN/MPQ-65 RS provides airspace surveillance, detection, target tracking, identification, missile tracking, missile guidance, and electronic counter-countermeasures. It has the capability to track a wide variety of targets under saturation raid conditions and support the simultaneous operation of multiple PATRIOT missiles to defend against a threat.

2. The AN/MSQ-132 Configuration 3+ Increment 3 ECS provides operational control of the PATRIOT Fire Unit (FU). The ECS exchanges FU initialization data, defense readiness conditions, states of alert, target evaluation data, engagement-related data, and ECS status with the Information and Coordination Central.

3. The M903 LS is a mobile tactical unit that transports, aims, and launches the PATRIOT Guidance Enhanced Missile (GEM-T) and PATRIOT Advanced Capability-3 (PAC-3) missiles. The LS is controlled from the Engagement Control Station (ECS) via the Data Link Terminal network.

4. The Power Generation Equipment Electric Power Plant (EPP) III provides tactical power for the ECS and RS. The EPP consists of two 15-kilowatt generator sets which are interconnected through the power distribution unit.

5. The KG-250X encryptor is a rugged, flexible, low-size, weight, and power (SWAP), high-speed inline network encryptor. It is used to secure sensitive data on military and government networks by encrypting network traffic, allowing for secure communication in high-risk environments.

6. The identification friend or foe (IFF) is an identification system designed for command and control. It enables military and civilian air traffic control interrogation systems to identify aircraft, vehicles, or forces as friendly, and to determine its bearing and range from the interrogator. The AN/TPX-57(V1) with KIV-77 encryptor is an Air Defense Interrogator (ADI) that is used to classify and re-classify targets in IFF systems.

7. The Defense Advanced Global Positioning System (GPS) Receiver (DAGR) is a small, commercial, NAVSTAR GPS receiver designed for military operations. The Selective Availability Anti-Spoofing Module (SAASM) is a security device controlling the encryption that enables Precise Positioning Service (PPS) Y-code signals from GPS satellites and resists adversary attempts to spoof GPS signals. The DAGR with SAASM will provide position and location information necessary for ground-based operation. The DAGR has a graphical screen, 12-channel continuous satellite tracking, simultaneous L1/L2 dual frequency GPS signal reception, and extended performance in a diverse jamming environment.

8. The highest level of classification of defense articles, components, and services included in this potential sale is SECRET.

9. If a technologically advanced adversary were to obtain knowledge of the specific hardware and software elements, the information could be used to develop countermeasures that might reduce system effectiveness or be used in the development of a system with similar or advanced capabilities.

10. A determination has been made that Romania can provide substantially the same degree of protection for the sensitive technology being released as the U.S. Government. This proposed sale is necessary in furtherance of the U.S. foreign policy and national security objectives outlined in the Policy Justification.

11. All defense articles and services listed in this transmittal have been authorized for release and export to the Government of Romania.

[FR Doc. 2026-00707 Filed 1-14-26; 8:45 am]

BILLING CODE 6001-FR-P